DEPARTMENT OF VETERANS AFFAIRS

38 CFR Part 3

RIN 2900-AK97

Time Limit for Requests for De Novo Review

AGENCY: Department of Veterans Affairs.

ACTION: Withdrawal of proposed rule.

SUMMARY: In a document published in the Federal Register at 67 FR 10866 on March 11, 2002, the Department of Veterans Affairs (VA) proposed to amend its adjudication regulations concerning the time a claimant has in which to request a de novo review of a decision at the Veterans Service Center level after filing a Notice of Disagreement. This document withdraws that proposed rule.

DATES: The proposed rule is withdrawn as of January 31, 2005.

FOR FURTHER INFORMATION CONTACT: Maya Ferrandino, Consultant, Policy and Regulations Staff, Compensation and Pension Service, Veterans Benefits Administration, 810 Vermont Ave., NW., Washington, DC 20420, telephone (202) 273-7232.

SUPPLEMENTARY INFORMATION: Currently, a claimant who disagrees with a decision by a Veterans Service Center may appeal that decision by filing a notice of disagreement (NOD). Under 38 CFR 3.2600, a claimant who has filed a timely NOD may also obtain de novo review of the decision of the Veterans Service Center by requesting such review with the NOD or within 60 days after the date that VA mails notice of the availability of de novo review. We proposed reducing that 60-day period to 15 days. However, we have determined that revision of the de novo review process is unnecessary at this time. Therefore, we are withdrawing the proposal.

Approved: December 17, 2004.
Anthony J. Principi,
Secretary of Veterans Affairs.

[FR Doc. 05-1704 Filed 1-28-05; 8:45 am]

BILLING CODE 8320-01-P